DEPARTMENT OF HEALTH AND HUMAN SERVICES

Agency for Healthcare Research and Quality

Request for Information Regarding Diagnostic Excellence Measurement; Reopening of Comment Period

AGENCY: Agency for Healthcare Research and Quality, U.S. Department of Health and Human Services.

ACTION: Notice; reopening of comment period.

SUMMARY: The Agency for Healthcare Research and Quality (AHRQ) invites public comment in response to this Request for Information (RFI) on the development of measures of diagnostic excellence that may be calculated using administrative data or electronic health record (EHR) data. The purpose of diagnostic excellence measurement is to identify potential opportunities to improve the diagnostic process at a health system or geographic level. AHRQ welcomes comments on the importance and usability of existing measures and those that may be under development.

DATES: The comments due date for the notice published on December 12, 2024, at 89 FR 100497, is reopened. Comments must be received by March 10, 2025.

ADDRESSES: Interested parties may submit comments electronically to qisupport@ahrq.hhs.gov with the subject line “Diagnostic Excellence Measurement.”

FOR FURTHER INFORMATION CONTACT: Questions may be addressed to Judy George, judy.george@ahrq.hhs.gov, (301) 427-1717.

SUPPLEMENTARY INFORMATION: The COVID-19 pandemic led to disruptions in healthcare service delivery and reversed some of the gains made in patient safety over the previous two decades. In 2024, AHRQ on behalf of HHS, officially launched the National Action Alliance for Patient and Workforce Safety (https://www.ahrq.gov/action-alliance/index.html), a collaboration between public and private partners to recommit to patient and workforce safety and to eliminate preventable harm in healthcare. Diagnostic safety events are an important contributor to patient safety, with diagnostic errors potentially impacting millions of U.S. residents each year (https://pmc.ncbi.nlm.nih.gov/articles/PMC5502242/). Diagnostic error is “the failure to (a) establish an accurate and timely explanation of the patient's health problem(s) or (b) communicate that explanation to the patient” (https://doi.org/10.17226/21794). However, in order to improve patient safety, a focus on diagnostic error reduction alone is not sufficient. Efforts are needed to improve the diagnostic process as a whole, with an emphasis on diagnostic excellence.

Diagnostic excellence may be defined as “an optimal process to attain an accurate and precise explanation about a patient's condition” (https://jamanetwork.com/journals/jama/article-abstract/2785845). This process should be “timely, cost-effective, convenient, and understandable to the patient.” Diagnostic excellence “embraces the six dimensions of quality enumerated by the Institute of Medicine in 2001: care that is safe, effective, patient-centered, timely, efficient, and equitable” (https://jamanetwork.com/journals/jama/article-abstract/2785845).

Several efforts have been underway to develop measures that provide information on the state of diagnostic excellence, including research funded by AHRQ and the Gordon and Betty Moore Foundation. The AHRQ Quality Indicators (QI) Program develops indicators of healthcare quality and patient safety in a variety of healthcare settings. The QI Program is actively engaged in collecting information on measures that can contribute to diagnostic excellence measurement. AHRQ is considering measures that rely on administrative claims data (for state and regional health departments with limited access to clinical data), as well as electronic health record data (for healthcare systems with full access to clinical data). AHRQ aims to address gaps in diagnostic excellence measurement with a population health lens and with the following goals:

1. Develop a starter set of standardized measures to support population-level diagnostic excellence surveillance.

2. Generate measures that are accessible and applicable across different types of users, especially those with limited access to clinical data sources.

3. Produce national benchmarks for population-level surveillance of diagnostic excellence.

4. Foster healthcare quality improvement in the area of diagnostic excellence.

AHRQ requests information from the public on existing measures that may be used in diagnostic excellence measurement and others that may be under development.

Criteria. Diagnostic excellence measures should be important, scientifically acceptable, feasible, and useful. These concepts are defined as follows:

Important. (1) There is evidence linking the measure to important outcomes (including either process outcomes or clinical outcomes); (2) there is evidence of inequalities across groups or opportunity for improvement on that measure; or (3) the target population of the measure (e.g., patients) or users of the measure (e.g., researchers, providers) value the measurement and find it meaningful.

Scientifically acceptable. A scientifically acceptable measure is both (1) valid (the measure accurately represents the concept it is trying to measure) and (2) reliable (the measure consistently produces the same result over time and in different contexts).

Feasible. A measure is feasible if it is possible to implement with existing data systems and clinical processes.

Useful. A measure is useful if it provides information useful for quality improvement programs, with the ability to capture variation in performance across reporting entities.

Additional Considerations. In addition to the criteria listed above, AHRQ aims to consider the extent to which measures:

• Identify an important gap in diagnostic performance;

• Contribute to the solution of a diagnostic safety problem;

• Are broadly applicable to a population-level diagnostic safety opportunity;

• Could be used to lessen health disparities.

AHRQ requests responses to the following questions:

1. Are you currently working on any initiatives related to diagnostic excellence, diagnostic safety, or diagnostic quality? If so, please describe. If you are working on diagnostic excellence initiatives, which ones would benefit from publicly available measurement tools or resources? Are there specific resources that you would like to see from AHRQ? If so, please describe.

2. If you are currently measuring diagnostic excellence in your organization, what measure(s) are you using? How do you use these measures (e.g., for quality improvement efforts, to track population health) and what motivated the use of such measures? What data sources are you using? What data model are you using to map data to standardized concepts (e.g., Observational Medical Outcomes Partnership (OMOP) Common Data Model, others)? Please specify your organization type (e.g., state/local health department, professional society, healthcare system, research organization, etc.) in your answer.

3. If you or your organization are not currently measuring diagnostic excellence, what diagnostic excellence measures might be helpful to your organization? Please specify your organization type in your answer.

4. If standardized measures with national benchmarks were made available through software by AHRQ, how likely would you be to use them? What characteristics (e.g., risk adjustment, frequency counts) or features (e.g., statistical programming languages, data model platforms, technology [web or cloud-based applications]) of such measures would facilitate their use and usefulness within your organization?

5. AHRQ is considering the diagnostic excellence-related measures listed here: https://bit.ly/41mg3i6. We invite comments on:

a. The extent to which these measures meet the “Criteria” listed above; and

b. The extent to which these measures address the “Additional Considerations” listed above.

6. AHRQ invites any additional comments related to potential AHRQ measures of diagnostic excellence.

AHRQ is interested in all of the questions listed above, but respondents are welcome to address as many or as few as they choose and to address additional areas of interest not listed. It is helpful to identify the question to which a particular answer corresponds.

This RFI is for planning purposes only and should not be construed as a policy, solicitation for applications, or as an obligation on the part of the Government to provide support for any ideas in response to it. AHRQ will use the information submitted in response toto this RFI at its discretion and will not provide comments to any respondent's submission. However, responses to this RFI may be reflected in future solicitation(s) or policies. The information provided will be analyzed and may appear in reports.

Dated: March 4, 2025.
Marquita Cullom,
Associate Director.

[FR Doc. 2025-03752 Filed 3-7-25; 8:45 am]

BILLING CODE P